DEPARTMENT OF COMMERCE

National Oceanic and Atmospheric Administration

Agency Information Collection Activities; Submission to the Office of Management and Budget (OMB) for Review and Approval; Comment Request; Emergency Beacon Registrations

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 27, 2025.

ADDRESSES: Interested persons are invited to submit written comments to Adrienne Thomas, NOAA PRA Officer, at NOAA.PRA@noaa.gov. Please reference OMB Control Number 0648-0295 in the subject line of your comments. All comments received are part of the public record and will generally be posted on https://www.regulations.gov without change. Do not submit Confidential Business Information or otherwise sensitive or protected information.

FOR FURTHER INFORMATION CONTACT: Requests for additional information or specific questions related to collection activities should be directed to LT Jessica Spruill, SARSAT Operations Support Officer, NOAA/NESDIS/SARSAT, NSOF, E/SPO53 4231 Suitland Rd., Suitland, MD 20746, (301) 817-4552, OPS.SARSAT@NOAA.GOV.

SUPPLEMENTARY INFORMATION:

I. Abstract

This is a request from NOAA's National Environmental Satellite, Data, and Information Service for extension and revision of an approved information collection: Emergency Beacon Registrations (OMB Control Number 0648-0295).

The United States, Canada, France, and Russia operate the Search and Rescue Satellite-Aided Tracking (COSPAS/SARSAT), a satellite system with equipment that can detect and locate ships, aircraft and individuals in distress if an emergency radio beacon is being carried. This system is used to detect digitally encoded signals in the 406.000-406.100 MHz range, coming from these emergency beacons. The 406.000-406.100 MHz beacons transmit a unique identifier, making possible the ability to combine previously collected data associated with that beacon and transmit this vital data along with the beacon's position to the appropriate rescue coordination center.

Persons buying 406.000-406.100 MHz emergency radio beacons are required to register them with NOAA prior to installation. These requirements are contained in Federal Communications Commission (FCC) regulations at 47 CFR 80.1061, 47 CFR 87.199 and 47 CFR 95.1402.

The registration data is used to facilitate a rescue and to suppress the costly consequences of false alarms, which if unsuppressed would initiate the launch of a rescue mission and thereby deplete limited resources and possibly result in the loss of lives. This is accomplished through the use of the data provided to the rescue forces from the beacon registration database maintained by the NOAA's United States Mission Control Center (USMCC) for Search and Rescue, to contact the distressed person(s) or alternate party via a phone call or radio broadcast. Other data provides rescuers with descriptive material of the element in distress. The registration information must be kept up-to-date.

Four registration forms are used. The EPIRB (Emergency Position Indicating Radio Beacon) form is used for nautical beacons. The ELT (Emergency Locator Transmitter) form is used for aircraft beacons. The PLB (Personal Locator Beacon) form is used to register portable beacons carried by individuals. Ship Security Alerting System (SSAS) beacons are carried aboard ships, are similar to EPIRBs and are used in the event of an emergency situation such as piracy or terrorism.

These forms are being updated to allow for additional information to be collected and shared with search and rescue (SAR) forces regarding PLBs used on vessels and aircraft to aid in a successful SAR response. If the user checks that their “VEHICLE TYPE” is “Boat”, they are asked to complete the following additional fields: Vessel Name, Federal/State Registration No., Home Port Marina/Dock, City and State (ST). If the user checks that their “VEHICLE TYPE” is “Aircraft”, they are asked to complete the following additional fields: Airport Code, City and State (ST). The city and state of the marina or airport is needed to help SAR forces to quickly look-up the airport/marina where the aircraft/boat is stored permanently. This helps SAR forces to identify false alerts (i.e., if the beacon goes off where the aircraft/boat is stored, it is likely to be a false alert). Likewise, if a distress situation is suspected, SAR forces can call the airport/marina to get more information on the owner and the owner's whereabouts. Upon approval of the additional fields to the PLB form, the PLB section of our additional page “Instructions for Completing NOAA's Emergency Beacon Registration Form” on all four forms (EPIRB, ELT, PLB and SSAS) will be updated to reflect those additional fields.

In addition, several changes that do not require additional data collection are proposed for all four forms for the purpose of streamlining wording, updating the date of the forms, and updating the instructions on completing the forms. The requested changes are as follows: removing the extra lines underneath “Name of Primary 24-Hour Emergency Contact” and “Name of Alternate 24-Hour Emergency Contact” to allow more room for handwriting in those sections; revising the last line on the form to add the beacon registration email address (beacon.registration@noaa.gov); and changing clarifying language in the “Additional Data” section to be more clear and direct.

II. Method of Collection

Respondents may either: (1) obtain the forms electronically via the internet at https://beaconregistration.noaa.gov, download, complete, sign and mail or fax or (2) register directly on the website, in which case the signature requirement is waived.

III. Data

OMB Control Number: 0648-0295.

Form Number(s): None.

Type of Review: Regular submission; Revision and extension of an approved information collection.

Affected Public: Individuals or households; Business or other for-profit organizations; Not-for-profit institutions; State, Local, or Tribal government; Federal government.

Estimated Number of Respondents: 207,917.

Estimated Time per Response: 15 minutes.

Estimated Total Annual Burden Hours: 51,980.

Estimated Total Annual Cost to Public: $0.

Respondent's Obligation: Mandatory.

Legal Authority: Federal Communications Commission (FCC) regulations at 47 CFR 80.1061, 47 CFR 87.199 and 47 CFR 95.1402.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-07237 Filed 4-25-25; 8:45 am]

BILLING CODE 3510-HR-P